DEPARTMENT OF THE INTERIOR

National Park Service

Draft General Management Plan/Environmental Impact Statement for Mary McLeod Bethune Council House National Historic Site, Washington, DC; Notice of Availability

SUMMARY: Pursuant to section 102(2)(C) of the National Environmental Policy Act of 1969 (Pub. L. 91-190, as amended), the National Park Service has prepared a Draft General Management Plan/Environmental Impact Statement (GMP/EIS) that evaluates four alternatives for Mary McLeod Bethune Council House National Historic Site (Council House). The document describes and analyzes the environmental impacts of a preferred action, two action alternatives and a no-action alternative. When approved, the plan will guide management actions during the next 15-20 years.

Alternatives

Alternative 1, the no-action alternative, would maintain current management direction. The Council House would continue to operate as a visitor center and administrative office area; archival collections and archive staff offices would remain in the carriage house. Conflicts would continue to occur between visitor and administrative functions in the limited space of the Council House resulting in a less than desirable visitor experience and operational inefficiency. Storage space for archival collections would remain inadequate. Alternative 2, the preferred action, would place dual emphasis on the Council House, which would be used as a museum, and on the archives. Under this alternative new space would be acquired to accommodate some visitor services and most administrative offices. The visitor experience would be enhanced with adequate space to provide broad and comprehensive interpretive opportunities and exhibits in the Council House. The primary storage for archival collections would be in an offsite state-of-the-art facility that would provide enhanced preservation and protection of stored items. The carriage house would be renovated and would house a research room, offices for archival staff, an area for some processing of collections, and space for frequently accessed collections. Alternative 3 would commemorate the site through the establishment of the Bethune Center for Human Rights. The Council House would be used for interpretation and also would provide a place for groups to meet and engage in activities, workshops and programs. Materials related to social justice and human rights would be emphasized in the archival collections. Additional property would be leased or acquired for administrative offices and would be the primary space for meetings and workshops. This space would be the main contact point for visitors, and access and programmatic interpretation would be provided for visitors with mobility disabilities at this site. Offsite interpretation would be expanded with traveling exhibits. The carriage house would be renovated and expanded to include the archival collections, archival staff offices, and research space. Under Alternative 4, the Council House would be used as a traditional National Park Service museum commemorating the life and times of Mary McLeod Bethune. The Council House would have expanded exhibit space and an orientation area for visitors. Period furnishings would be in the Council House and archival collections would illustrate the highlights of Mary McLeod Bethune's life and activities. Educational materials would focus on the life contributions and legacy of Mary McLeod Bethune. Space would be leased offsite to accommodate current archival collections that would be managed through a contract with others. The carriage house would be torn down and replaced with a new building that would house a bookstore, visitor restrooms and administrative offices.

Public Review

A 60-day public review period for comment on the draft document will begin after publication of this notice. In order to facilitate the review process, public reading copies of the GMP/EIS will be available for review at the following locations:

Mary McLeod Bethune Council House National Historic Site, 1318 Vermont Avenue, NW., Washington, DC 20005

National Capital Parks—East, 1900 Anacostia Drive, SE., Washington, DC 20020

National Capital Region Office of Lands, Resources and Planning Attention: Gail Cain 1100 Ohio Drive, NW., Washington, DC 20242

Frederick Douglass National Historic Site Visitor Center, 1411 W Street, SE., Washington, DC 20020

In addition, the document will be posted on the National Park Service Planning site under Mary McLeod Bethune Council House National Historic Site, http://www.nps.gov/mamc/pphtml/facts.html. A limited number of printed copies will be available on request.

Comments on the draft GMP/EIS should be received (or transmitted by e-mail) no later than 60 days after publication of this Federal Register notice. Written comments may be submitted to: Terri Urbanowski, PDS, National Park Service, P.O. Box 25287, Denver, CO 80225-0287 or eMailed to: MAMC_GMP@nps.gov.

All comments received will be available for public review at Mary McLeod Bethune Council House National Historic Site. If individuals submitting comments request that their name and/or address be withheld from public disclosure, it will be honored to the extent allowable by law. Such requests must be stated prominently in the beginning of the comments. There also may be circumstances wherein the National Park Service will withhold a respondent's identity as allowable by law. As always, the National Park Service will make available for public inspection all submissions from organizations or businesses and from persons identifying themselves as representatives or officials of organizations and businesses. Anonymous comments may not be considered.

Decision Process

Notice of the availability of the final document will be published in the Federal Register. Subsequently, notice of an approved Record of Decision will be published in the Federal Register not sooner than 30 days after the final document is distributed. The official responsible for the decision is the Regional Director, National Capital Region, National Park Service; the official responsible for implementation is Superintendent John Hale, National Capital Parks-East at (202) 690-5185.

FOR FURTHER INFORMATION CONTACT: Site Manager Diann Jacox, Mary McLeod Bethune Council House National Historic Site, 1318 Vermont Avenue, NW., Washington, DC 20005, (202) 673-2402, fax (202) 673-2414, eMail Diann_Jacox@nps.gov.

Terry R. Carlstrom,
Regional Director, National Capital Region.

[FR Doc. 01-16545 Filed 6-29-01; 8:45 am]

BILLING CODE 4310-70-P